ENVIRONMENTAL PROTECTION AGENCY

[EPA-HQ-OECA-2006-0449; FRL-8288-5]

Agency Information Collection Activities; Submission to OMB for Review and Approval; Comment Request; NSPS for Standards of Performance for Storage Vessels for Petroleum Liquids for Which Construction, Reconstruction or Modification Commenced After June 11, 1973, and Prior to May 19, 1978 (Renewal), EPA ICR Number 1797.04, OMB Control Number 2060-0442

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before April 16, 2007.

ADDRESSES: Submit your comments, referencing docket ID number EPA-HQ-OECA-2006-0449, to (1) EPA online using www.regulations.gov (our preferred method), or by e-mail to docket.oeca@epa.gov, or by mail to: EPA Docket Center (EPA/DC), Environmental Protection Agency, Enforcement and Compliance Docket and Information Center, mail code 2201T , 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: María Malavé, Compliance Assessment and Media Programs Division (Mail Code 2223A), Office of Compliance, Environmental Protection Agency, 1200 Pennsylvania Avenue, NW., Washington, DC 20460; telephone number: (202) 564-7027; fax number: (202) 564-0050; e-mail address: malave.maria@epa.gov.

SUPPLEMENTARY INFORMATION: EPA has submitted the following ICR to OMB for review and approval according to the procedures prescribed in 5 CFR 1320.12. On June 21, 2006 (71 FR 35652), EPA sought comments on this ICR pursuant to 5 CFR 1320.8(d). EPA received no comments. Any additional comments on this ICR should be submitted to EPA and OMB within 30 days of this notice.

EPA has established a public docket for this ICR under docket ID number EPA-HQ-OECA-2006-0449, which is available for public viewing online at http://www.regulations.gov, in person viewing at the Enforcement and Compliance Docket in the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1927.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov, as EPA receives them and without change, unless the comment contains copyrighted material, CBI, or other information whose public disclosure is restricted by statute. For further information about the electronic docket, go to www.regulations.gov.

Title: NSPS for Standards of Performance for Storage Vessels for Petroleum Liquids for which Construction, Reconstruction or Modification Commenced after June 11, 1973, and prior to May 19, 1978 (Renewal).

ICR Numbers: EPA ICR Number 1797.04, OMB Control Number 2060-0442.

ICR Status: This ICR is scheduled to expire on March 31, 2007. Under OMB regulations, the Agency may continue to conduct or sponsor the collection of information while this submission is pending at OMB. An Agency may not conduct or sponsor, and a person is not required to respond to, a collection of information unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: The New Source Performance Standards (NSPS) for Storage Vessels for Petroleum Liquids for which Construction, Reconstruction or Modification Commenced after June 11, 1973, and prior to May 19, 1978 were proposed on June 11, 1973, and promulgated on March 8, 1974. These regulations apply to facilities that store petroleum liquids in storage vessels with a storage capacity greater than 151,416 liters (40,000 gallons) including: storage vessels with capacity greater than 151,416 liters (40,000 gallons) but not exceeding 246,052 liters (65,000 gallons), and where construction or modification commenced after March 8, 1974, and prior to May 19, 1978; and storage vessels that have a capacity greater than 246,052 liters (65,000 gallons), and where construction or modification commenced after June 11, 1973, and prior to May 19, 1978. Facilities that are not subject to these standards are storage vessels of petroleum or condensate stored, processed, and/or treated at a drilling and production facility prior to custody transfer. This information is being collected to assure compliance with 40 CFR part 60, subpart K.

In general, all NSPS standards require initial notifications, performance tests, and periodic reports. Affected facilities report only if a storage vessel is no longer subject to 40 CFR part 60, subpart K and will become subject to the current storage vessel standard, 40 CFR part 60, subpart Kb. The NSPS subpart K standards also require the owner/operator to document (recordkeeping) the activities of the storage period, the maximum true vapor pressure, and the type of petroleum liquid stored. This information is recorded only when a petroleum liquid is changed in the storage vessel. Owners or operators are also required to maintain records of the occurrence and duration of any startup, shutdown, or malfunction in the operation of an affected facility, or any period during which the monitoring system is inoperative. These notifications, reports, and records are essential in determining compliance, and required of all sources subject to NSPS.

Any owner or operator subject to the provisions of this part shall maintain a file of these measurements, and retain the file for at least two years following the date of such measurements, maintenance reports, and records. All reports are sent to the delegated state or local authority. In the event that there is no such delegated authority, the reports are sent directly to the United States Environmental Protection Agency (EPA) regional office.

Burden Statement: The annual public reporting and recordkeeping burden for this collection of information is estimated to average 3.5 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Owners or operators of facilities that store petroleum liquids for which construction, reconstruction or modification commenced after June 11, 1973, and prior to May 19, 1978.

Estimated Number of Respondents: 220.

Frequency of Response: Initially, on Occasion.

Estimated Total Annual Hour Burden: 769 hours.

Estimated Total Annualized Cost: $65,142, which includes $0 annualized capital startup costs, $0 Operating and Maintenance Costs (O&M) and $65,142 annual labor costs.

Changes in the Estimates: There is a small increase of 100 in the labor hours and no change in the annualized cost, which includes capital/startup and operation and maintenance costs, in this ICR compared to the previous ICR. This is due to two considerations. First, the regulations have not changed over the past three years and are not anticipated to change over the next three years. Secondly, the growth rate for the industry is very low, negative or non-existent, so there is no significant change in the overall burden. Since there are no changes in the regulatory requirements and there is no significant industry growth, the slight increase in the labor hours is only due to the inclusion of managerial and clerical hours and updating of the technical labor rate. In addition, there is no change in the annualized cost in this renewal when compared to the previous ICR.

Dated: March 7, 2007.
Oscar Morales,
Director, Collection Strategies Division.

[FR Doc. E7-4857 Filed 3-15-07; 8:45 am]

BILLING CODE 6560-50-P